NATIONAL SCIENCE FOUNDATION

National Science Board; Audit and Oversight Committee; Sunshine Act Meetings; Notice

The National Science Board's Audit and Oversight Committee, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Date and Time: Monday, July 30, 2007 at 5 p.m.

Subject Matter: To discuss findings and recommendations of OIG review of Board operations polices and procedures.

Status: Closed.

This meeting will be held by teleconference originating at the National Science Board Office, National Science Foundation, 4201 Wilson Blvd., Arlington, VA 22230. Please refer to the National Science Board Web site (http://www.nsf.gov/nsb) for information or schedule updates, or contact: Bruce M. Carpel, National Science Foundation, 4201 Wilson Blvd., Arlington, VA 22230. Telephone: (703) 292-4982.

Russell Moy,
Attorney-Advisor.

[FR Doc. E7-13968 Filed 7-17-07; 8:45 am]

BILLING CODE 7555-01-P